DEPARTMENT OF COMMERCE

National Oceanic and Atmospheric Administration

15 CFR Part 922

Notice of Intent to Prepare a Supplemental Draft Environmental Impact Statement for the Channel Islands National Marine Sanctuary Management Plan Review

AGENCY: National Marine Sanctuary Program, National Ocean Service, National Oceanic and Atmospheric Administration, Department of Commerce.

ACTION: Notice of intent.

SUMMARY: Notice is hereby given that the National Oceanic and Atmospheric Administration's (NOAA) National Marine Sanctuary Program (NMSP) is preparing a Supplemental Draft Environmental Impact Statement (SDEIS) to supplement and/or replace information contained in the Draft Environmental Impact Statement (DEIS) for the Channel Islands National Marine Sanctuary (CINMS or Sanctuary) management plan review. The SDEIS will analyze revisions to the Sanctuary's proposed action that would, in effect, prohibit the following discharges within the Sanctuary: (1) All sewage from vessels 300 gross registered tons (GRT) or more, including cruise ships and oceangoing ships; and (2) graywater from vessels 300 GRT or more, including from cruise ships, and from oceangoing ships with the capability to hold graywater while within the Sanctuary.

DATES: Because the NMSP has previously requested (64 FR 31528 and 71 FR 29096) and received extensive information from the public on issues to be addressed in the SDEIS, and because the Council on Environmental Quality (CEQ) regulations for implementing the National Environmental Policy Act (NEPA) do not require additional scoping for this SDEIS process (40 CFR 1502.9(c)(4)), the NMSP is not asking for further public scoping information and coment at this time. Upon release of the SDEIS the NMSP will provide a 45-day public review/comment period.

ADDRESSES: Copies of the 2006 DEIS are available at Channel Islands National Marine Sanctuary, 113 Harbor Way, Suite 150, Santa Barbara, California and on the Web at http://channelislands.noaa.gov.

FOR FURTHER INFORMATION CONTACT: Michael Murray at (805) 884-1464 or michael.murray@noaa.gov.

SUPPLEMENTARY INFORMATION: During the DEIS public review period (May 15 through July 21, 2006) NOAA received a wide range of comments, including substantial public and agency comments about changes proposed for Sanctuary regulation of sewage ¹ and graywater discharges from large vessels.² The DEIS provided three regulatory alternatives: The preferred alternative, alternative 1, and the no-action alternative. The DEIS preferred alternative and NOAA's then-proposed action would clarify that a type I or II marine sanitation device (MSD) is required for discharge of treated sewage within the Sanctuary and proposes that graywater discharge from all vessels be excepted from the discharge prohibition. Alternative 1 also proposes a graywater exception from the prohibition for all vessels, but would prohibit discharge into the Sanctuary of treated or untreated sewage from large vessels (greater than or equal to 300 GRT). The no action alternative would retain the status quo regulation on discharge, which is ambiguous with regard to graywater and imprecise with regard to the type of MSD required for vessel sewage discharge within the sanctuary.

¹ Sewage means human body wastes and the wastes from toilets and other receptacles intended to receive or retain body wastes (40 CFR 140.1(a)).

² “Large vessel” is used herein to mean any vessel of 300 GRT or more. 300 GRT is an established state and federal size class threshold for vessel discharge regulation purposes. This includes oceangoing ships and cruise ships. “Oceangoing ship” means a private, commercial, government, or military vessel of 300 GRT or more, not including cruise ships. “Cruise ship” means a vessel with 250 or more passenger berths for hire.

Comments included a request that NOAA adopt the discharge regulation under alternative 1, which would prohibit any sewage discharges from large vessels, whether treated or untreated. Comments also included a request that NOAA prohibit cruise ship discharges in Sanctuary waters. In addition, there were suggestions that NOAA implement recommendations contained in the water quality needs assessment developed by a working group of the Sanctuary Advisory Council (available at http://www.channelislands.noaa.gov/sac/pdf/10-17-05.pdf), which provides a comprehensive evaluation of water quality threats and provides a broad range of management advice. This assessment includes a recommendation that NOAA prohibit cruise ship discharges in Sanctuary waters. In addition, comments from State agencies and a suite of environmental non-governmental organizations indicated that NOAA's proposed exception for graywater discharges is inconsistent with the California Clean Coast Act (California Public Resources Code Sec 72420-72422) that prohibits graywater discharges from vesels 300 gross registered tons or more within state waters. The types of comments described above were the only types of comments received on the issues of graywater and sewage discharge from large vessels.

In May 2006 NOAA submitted its Coastal Zone Management Act consistency finding to the California Coastal Commission (Commission), in compliance with Federal consistency regulations (15 CFR part 930). In July 2006 the Commission conditionally concurred with the finding that the proposed revised Sanctuary management plan and regulations are fully consistent with the enforceable policies of the California Coastal Management Program. The Commission voted to concur with the consistency finding on the condition that NOAA revise the proposed discharge and deposit regulation to prohibit vessels of 300 GRT or more from discharging sewage or graywater into the waters of the Sanctuary.

After reviewing these public comments, considering the Commission's action, and further analyzing the vessel discharge issues raised, NOAA proposes to revise its proposed action with regard to prohibition of graywater and sewage discharges from large vessels. NOAA also proposes to define the terms “oceangoing ship“ and “cruise ship” within the Sanctuary regulations. The SDEIS, in conjunction with the concomitant supplemental proposed rule, will evaluate the revised proposed action and provide the public with an opportunity for additional review and comment.

Authority: 16 U.S.C. 1431 et seq.

Federal Domestic Assistance Catalog Number 11.429 Marine Sanctuary Program.

Dated: July 18, 2007.
William Corso,
Deputy Assistant Administrator, Ocean Services and Coastal Zone Management, National Oceanic and Atmospheric Administration.

[FR Doc. 07-3608 Filed 7-24-07; 8:45 am]

BILLING CODE 3510-NK-M